DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons and vessels that have been placed on OFAC's Specially Designated Nationals and Blocked Persons List based on OFAC's determination that one or more applicable legal criteria were satisfied. All property and interests in property subject to U.S. jurisdiction of these persons, and these vessels, are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On February 23, 2018, OFAC determined that the property and interests in property subject to U.S. jurisdiction of the following persons, and the following vessels subject to U.S. jurisdiction, are blocked under the relevant sanctions authorities listed below.

Individuals

Entities

1. CHONMYONG SHIPPING CO (a.k.a. CHON MYONG SHIPPING COMPANY LIMITED), Kalrimgil 2-dong, Mangyongdae-guyok, Pyongyang, Korea, North; Saemaul 2-dong, Pyongchon-guyok, Pyongyang, Korea, North; Company Number IMO 5571322 [DPRK4].

Designated pursuant to section 1(a)(i) of Executive Order 13810 of September 20, 2017, “Imposing Additional Sanctions With Respect to North Korea” (E.O. 13810) for operating in the transportation industry in North Korea.

2. FIRST OIL JV CO LTD, Jongbaek 1-dong, Rakrang-guyok, Pyongyang, Korea, North; Company Number IMO 5963351 [DPRK4].

Designated pursuant to section 1(a)(i) of E.O. 13810 for operating in the transportation industry in North Korea.

3. HAPJANGGANG SHIPPING CORP, Kumsong 3-dong, Mangyongdae-guyok, Pyongyang, Korea, North; Company Number IMO 5787684 [DPRK4].

Designated pursuant to section 1(a)(i) of E.O. 13810 for operating in the transportation industry in North Korea.

4. KOREA ACHIM SHIPPING CO, Sochang-dong, Chung-guyok, Pyongyang, Korea, North; Company Number IMO 5936312 [DPRK4].

Designated pursuant to section 1(a)(i) of E.O. 13810 for operating in the transportation industry in North Korea.

5. KOREA ANSAN SHIPPING COMPANY (a.k.a. KOREA ANSAN SHPG CO), Pyongchon 1-dong, Pyongchon-guyok, Pyongyang, Korea, North; Company Number IMO 5676084 [DPRK4].

Designated pursuant to section 1(a)(i) of E.O. 13810 for operating in the transportation industry in North Korea.

6. KOREA MYONGDOK SHIPPING CO, Chilgol 2-dong, Mangyongdae-guyok, Pyongyang, Korea, North; Company Number IMO 5985863 [DPRK4].

Designated pursuant to section 1(a)(i) of E.O. 13810 for operating in the transportation industry in North Korea.

7. KOREA SAMJONG SHIPPING CO, Tonghung-dong, Chung-guyok, Pyongyang, Korea, North; Company Number IMO 5954061 [DPRK4].

Designated pursuant to section 1(a)(i) of E.O. 13810 for operating in the transportation industry in North Korea.

8. KOREA SAMMA SHPG CO (a.k.a. KOREA SAMMA SHIPPING CO), Rakrang 3-dong, Rakrang-guyok, Pyongyang, Korea, North; Company Number IMO 5145892 [DPRK4].

Designated pursuant to section 1(a)(i) of E.O. 13810 for operating in the transportation industry in North Korea.

9. KOREA UNPHA SHIPPING & TRADING (a.k.a. KOREA UNPHA SHIPPING AND TRADING), Puksong-dong, Pyongchon-guyok, Pyongyang, Korea, North; Company Number IMO 6005935 [DPRK4].

Designated pursuant to section 1(a)(i) of E.O. 13810 for operating in the transportation industry in North Korea.

10. KOREA YUJONG SHIPPING CO LTD, Puksong 2-dong, Pyongchon-guyok, Pyongyang, Korea, North; Company Number IMO 5434358 [DPRK4].

Designated pursuant to section 1(a)(i) of E.O. 13810 for operating in the transportation industry in North Korea.

11. MYOHYANG SHIPPING CO, Kumsong 3-dong, Mangyongdae-guyok, Pyongyang, Korea, North; Company Number IMO 5988369 [DPRK4].

Designated pursuant to section 1(a)(i) of E.O. 13810 for operating in the transportation industry in North Korea.

12. PAEKMA SHIPPING CO, Care of First Oil JV Co Ltd, Jongbaek 1-dong, Rakrang-guyok, Pyongyang, Korea, North; Company Number IMO 5999479 [DPRK4].

Designated pursuant to section 1(a)(i) of E.O. 13810 for operating in the transportation industry in North Korea.

13. PHYONGCHON SHIPPING & MARINE (a.k.a. PHYONGCHON SHIPPING AND MARINE), Otan-dong, Chung-guyok, Pyongyang, Korea, North; Company Number IMO 5878561 [DPRK4].

Designated pursuant to section 1(a)(i) of E.O. 13810 for operating in the transportation industry in North Korea.

14. POCHON SHIPPING & MANAGEMENT (a.k.a. POCHON SHIPPING AND MANAGEMENT), Sonnae-dong, Mangyongdae-guyok, Pyongyang, Korea, North; Company Number IMO 5990271 [DPRK4].

Designated pursuant to section 1(a)(i) of E.O. 13810 for operating in the transportation industry in North Korea.

15. SONGWON SHIPPING & MANAGEMENT (a.k.a. SONGWON SHIPPING AND MANAGEMENT), Somun-dong, Chung-guyok, Pyongyang, Korea, North; Company Number IMO 5990268 [DPRK4].

Designated pursuant to section 1(a)(i) of E.O. 13810 for operating in the transportation industry in North Korea.

16. TONGHUNG SHIPPING & TRADING CO (a.k.a. TONGHUNG SHIPPING AND TRADING CO), Kinmaul-dong, Moranbong-guyok, Pyongyang, Korea, North; Company Number IMO 1991835 [DPRK4].

Designated pursuant to section 1(a)(i) of E.O. 13810 for operating in the transportation industry in North Korea.

17. KINGLY WON INTERNATIONAL CO., LTD., Marshall Islands; Trust Company Complex, Ajeltake Road, Ajeltake Island, Majuro MH 96960, Marshall Islands; Taiwan; 8th Floor, Number 466, Section 2, Neihu Road, Taipei, Taiwan; Commercial Registry Number 90132 (Marshall Islands) [DPRK3] (Linked To: TSANG, Yung Yuan).

Designated pursuant to section 2(a)(viii) of E.O. 13722 for being owned or controlled by TSANG, a person whose property and interests in property are blocked pursuant to E.O. 13722.

18. PRO-GAIN GROUP CORPORATION, 8th Floor, Number 466, Section 2, Neihu Road, Taipei, Taiwan; Le Sanalele Complex, Ground Floor, Vaea Street, Saleufi, Apia, Samoa; Taiwan; Samoa [DPRK3] (Linked To: TSANG, Yung Yuan).

Designated pursuant to section 2(a)(viii) of E.O. 13722 for being owned or controlled by TSANG, a person whose property and interests in property are blocked pursuant to E.O. 13722.

BILLING CODE 4810-AL-P

BILLING CODE 4810-AL-C

23. KOTI CORP, Panama City, Panama; Company Number IMO 5982254 [DPRK4].

Designated pursuant to section 1(a)(iii) of E.O. 13810 for having engaged in at least one significant importation from or exportation to North Korea of any goods, services, or technology.

24. SHANGHAI DONGFENG SHPG CO LTD, Room 601, 433, Chifeng Lu, Hongkou Qu, Shanghai 200083, China; Company Number IMO 5721069 [DPRK4].

Designated pursuant to section 1(a)(iii) of E.O. 13810 for having engaged in at least one significant importation from or exportation to North Korea of any goods, services, or technology.

BILLING CODE 4810-AL-P

BILLING CODE 4810-AL-C

26. WEIHAI WORLD-SHIPPING FREIGHT, 419-201, Tongyi Lu, Huancui Qu, Weihai, Shandong 264200, China; Company Number IMO 5905801 [DPRK4].

Designated pursuant to section 1(a)(iii) of E.O. 13810 for having engaged in at least one significant importation from or exportation to North Korea of any goods, services, or technology.

27. YUK TUNG ENERGY PTE LTD, 17-22, UOB Plaza 2, Raffles Place 048624, Singapore; Company Number IMO 5987860 [DPRK4].

Designated pursuant to section 1(a)(iii) of E.O. 13810 for having engaged in at least one significant importation from or exportation to North Korea of any goods, services, or technology.

Also designated pursuant to section 1(a)(v) of E.O. 13810 for having materially assisted, sponsored, or provided financial, material, or technological support for, or goods or services to or in support of, KOREA KUMBYOL TRADING COMPANY, a person whose property and interests in property are blocked pursuant to E.O. 13810.

Vessels

1. AN SAN 1 Democratic People's Republic of Korea flag; Vessel Registration Identification IMO 7303803 (vessel) [DPRK4] (Linked To: KOREA ANSAN SHIPPING COMPANY).

Identified pursuant to E.O. 13810 as property in which KOREA ANSAN SHIPPING COMPANY, a person whose property and interests in property are blocked pursuant to E.O. 13810, has an interest.

2. CHON MA SAN Democratic People's Republic of Korea flag; Vessel Registration Identification IMO 8660313 (vessel) [DPRK4] (Linked To: KOREA ACHIM SHIPPING CO).

Identified pursuant to E.O. 13810 as property in which KOREA ACHIM SHIPPING CO, a person whose property and interests in property are blocked pursuant to E.O. 13810, has an interest.

3. CHON MYONG 1 Democratic People's Republic of Korea flag; Vessel Registration Identification IMO 8712362 (vessel) [DPRK4] (Linked To: CHONMYONG SHIPPING CO).

Identified pursuant to E.O. 13810 as property in which CHONMYONG SHIPPING CO, a person whose property and interests in property are blocked pursuant to E.O. 13810, has an interest.

4. HAP JANG GANG 6 Democratic People's Republic of Korea flag; Vessel Registration Identification IMO 9066540 (vessel) [DPRK4] (Linked To: HAPJANGGANG SHIPPING CORP).

Identified pursuant to E.O. 13810 as property in which HAPJANGGANG SHIPPING CORP, a person whose property and interests in property are blocked pursuant to E.O. 13810, has an interest.

5. JI SONG 6 Democratic People's Republic of Korea flag; Vessel Registration Identification IMO 8898740 (vessel) [DPRK4] (Linked To: PHYONGCHON SHIPPING & MARINE).

Identified pursuant to E.O. 13810 as property in which PHYONGCHON SHIPPING & MARINE, a person whose property and interests in property are blocked pursuant to E.O. 13810, has an interest.

6. JI SONG 8 Democratic People's Republic of Korea flag; Vessel Registration Identification IMO 8503228 (vessel) [DPRK4] (Linked To: PHYONGCHON SHIPPING & MARINE).

Identified pursuant to E.O. 13810 as property in which PHYONGCHON SHIPPING & MARINE, a person whose property and interests in property are blocked pursuant to E.O. 13810, has an interest.

7. KUM GANG 3 Democratic People's Republic of Korea flag; Vessel Registration Identification IMO 8966535 (vessel) [DPRK4] (Linked To: KOREA UNPHA SHIPPING & TRADING).

Identified pursuant to E.O. 13810 as property in which KOREA UNPHA SHIPPING & TRADING, a person whose property and interests in property are blocked pursuant to E.O. 13810, has an interest.

8. NAM SAN 8 Democratic People's Republic of Korea flag; Vessel Registration Identification IMO 8122347 (vessel) [DPRK4] (Linked To: HAPJANGGANG SHIPPING CORP).

Identified pursuant to E.O. 13810 as property in which HAPJANGGANG SHIPPING CORP, a person whose property and interests in property are blocked pursuant to E.O. 13810, has an interest.

9. PAEK MA Democratic People's Republic of Korea flag; Vessel Registration Identification IMO 9066978 (vessel) [DPRK4] (Linked To: PAEKMA SHIPPING CO; Linked To: FIRST OIL JV CO LTD).

Identified pursuant to E.O. 13810 as property in which PAEKMA SHIPPING CO, a person whose property and interests in property are blocked pursuant to E.O. 13810, has an interest.

10. PO CHON Democratic People's Republic of Korea flag; Vessel Registration Identification IMO 8848276 (vessel) [DPRK4] (Linked To: POCHON SHIPPING & MANAGEMENT).

Identified pursuant to E.O. 13810 as property in which POCHON SHIPPING & MANAGEMENT, a person whose property and interests in property are blocked pursuant to E.O. 13810, has an interest.

11. SAM JONG 1 Democratic People's Republic of Korea flag; Vessel Registration Identification IMO 8405311 (vessel) [DPRK4] (Linked To: KOREA SAMJONG SHIPPING CO).

Identified pursuant to E.O. 13810 as property in which KOREA SAMJONG SHIPPING CO, a person whose property and interests in property are blocked pursuant to E.O. 13810, has an interest.

12. SAM JONG 2 Democratic People's Republic of Korea flag; Vessel Registration Identification IMO 7408873 (vessel) [DPRK4] (Linked To: KOREA SAMJONG SHIPPING CO).

Identified pursuant to E.O. 13810 as property in which KOREA SAMJONG SHIPPING CO, a person whose property and interests in property are blocked pursuant to E.O. 13810, has an interest.

13. SAM MA 2 Democratic People's Republic of Korea flag; Vessel Registration Identification IMO 8106496 (vessel) [DPRK4] (Linked To: KOREA SAMMA SHPG CO).

Identified pursuant to E.O. 13810 as property in which KOREA SAMMA SHPG CO, a person whose property and interests in property are blocked pursuant to E.O. 13810, has an interest.

14. SONG WON Democratic People's Republic of Korea flag; Vessel Registration Identification IMO 8613360 (vessel) [DPRK4] (Linked To: SONGWON SHIPPING & MANAGEMENT).

Identified pursuant to E.O. 13810 as property in which SONGWON SHIPPING & MANAGEMENT, a person whose property and interests in property are blocked pursuant to E.O. 13810, has an interest.

15. TONG HUNG 5 Democratic People's Republic of Korea flag; Vessel Registration Identification IMO 8151415 (vessel) [DPRK4] (Linked To: TONGHUNG SHIPPING & TRADING CO).

Identified pursuant to E.O. 13810 as property in which TONGHUNG SHIPPING & TRADING CO, a person whose property and interests in property are blocked pursuant to E.O. 13810, has an interest

16. WOORY STAR Democratic People's Republic of Korea flag; Vessel Registration Identification IMO 8408595 (vessel) [DPRK4] (Linked To: PHYONGCHON SHIPPING & MARINE).

Identified pursuant to E.O. 13810 as property in which PHYONGCHON SHIPPING & MARINE, a person whose property and interests in property are blocked pursuant to E.O. 13810, has an interest.

17. YU JONG 2 Democratic People's Republic of Korea flag; Vessel Registration Identification IMO 8604917 (vessel) [DPRK4] (Linked To: KOREA YUJONG SHIPPING CO LTD).

Identified pursuant to E.O. 13810 as property in which KOREA YUJONG SHIPPING CO LTD, a person whose property and interests in property are blocked pursuant to E.O. 13810, has an interest.

18. YU PHYONG 5 Democratic People's Republic of Korea flag; Vessel Registration Identification IMO 8605026 (vessel) [DPRK4] (Linked To: KOREA MYONGDOK SHIPPING CO).

Identified pursuant to E.O. 13810 as property in which KOREA MYONGDOK SHIPPING CO, a person whose property and interests in property are blocked pursuant to E.O. 13810, has an interest.

19. YU SON Democratic People's Republic of Korea flag; Vessel Registration Identification IMO 8691702 (vessel) [DPRK4] (Linked To: MYOHYANG SHIPPING CO).

Identified pursuant to E.O. 13810 as property in which MYOHYANG SHIPPING CO, a person whose property and interests in property are blocked pursuant to E.O. 13810, has an interest.

20. ASIA BRIDGE 1 8,015DWT; Vessel Registration Identification IMO 8916580 (vessel) [DPRK4] (Linked To: HUAXIN SHIPPING HONGKONG LTD).

Identified pursuant to E.O. 13810 as property in which HUAXIN SHIPPING HONGKONG LTD, a person whose property and interests in property are blocked pursuant to E.O. 13810, has an interest.

21. DONG FENG 6 5,515DWT Tanzania flag; Vessel Registration Identification IMO 9008201 (vessel) [DPRK4] (Linked To: SHANGHAI DONGFENG SHPG CO LTD).

Identified pursuant to E.O. 13810 as property in which SHANGHAI DONGFENG SHPG CO LTD, a person whose property and interests in property are blocked pursuant to E.O. 13810, has an interest.

22. HAO FAN 2 11,658DWT; Vessel Registration Identification IMO 8747604 (vessel) [DPRK4] (Linked To: SHEN ZHONG INTERNATIONAL SHPG).

Identified pursuant to E.O. 13810 as property in which SHEN ZHONG INTERNATIONAL SHPG, a person whose property and interests in property are blocked pursuant to E.O. 13810, has an interest.

23. HAO FAN 6 13,500DWT; Vessel Registration Identification IMO 8628597 (vessel) [DPRK4] (Linked To: SHEN ZHONG INTERNATIONAL SHPG).

Identified pursuant to E.O. 13810 as property in which SHEN ZHONG INTERNATIONAL SHPG, a person whose property and interests in property are blocked pursuant to E.O. 13810, has an interest.

24. HUA FU 10,030DWT Panama flag; Vessel Registration Identification IMO 9020003 (vessel) [DPRK4] (Linked To: CHANG AN SHIPPING & TECHNOLOGY).

Identified pursuant to E.O. 13810 as property in which CHANG AN SHIPPING & TECHNOLOGY, a person whose property and interests in property are blocked pursuant to E.O. 13810, has an interest.

25. KOTI Panama flag; Vessel Registration Identification IMO 9417115 (vessel) [DPRK4] (Linked To: KOTI CORP).

Identified pursuant to E.O. 13810 as property in which KOTI CORP, a person whose property and interests in property are blocked pursuant to E.O. 13810, has an interest.

26. ORIENTAL TREASURE 9,038DWT Comoros flag; Vessel Registration Identification IMO 9115028 (vessel) [DPRK4] (Linked To: HONGXIANG MARINE HONG KONG LTD).

Identified pursuant to E.O. 13810 as property in which HONGXIANG MARINE HONG KONG LTD, a person whose property and interests in property are blocked pursuant to E.O. 13810, has an interest.

27. XIN GUANG HAI 7,067DWT; Vessel Registration Identification IMO 9004700 (vessel) [DPRK4] (Linked To: WEIHAI WORLD-SHIPPING FREIGHT).

Identified pursuant to E.O. 13810 as property in which WEIHAI WORLD-SHIPPING FREIGHT, a person whose property and interests in property are blocked pursuant to E.O. 13810, has an interest.

28. YUK TUNG; Vessel Registration Identification IMO 9030591 (vessel) [DPRK4] (Linked To: YUK TUNG ENERGY PTE LTD).

Identified pursuant to E.O. 13810 as property in which YUK TUNG ENERGY PTE LTD, a person whose property and interests in property are blocked pursuant to E.O. 13810, has an interest.

Dated: February 23, 2018.
Andrea M. Gacki,
Acting Director, Office of Foreign Assets Control.

[FR Doc. 2018-04219 Filed 3-1-18; 8:45 am]

BILLING CODE 4810-AL-P